DEPARTMENT OF ENERGY

Federal Energy Regulatory Commission

Combined Notice of Filings

Take notice that the Commission has received the following Natural Gas Pipeline Rate and Refund Report filings:

Filings Instituting Proceedings

Docket Numbers: RP17-1101-001.

Applicants: Texas Gas Transmission, LLC.

Description: Tariff Amendment: Amendment to Filing in Docket No. RP17-1101-000 to be effective10/1/2017.

Filed Date: 9/28/17.

Accession Number: 20170928-5128.

Comments Due: 5 p.m. ET 10/10/17.

Docket Numbers: RP16-855-001.

Applicants: National Grid LNG, LLC.

Description: Compliance filing NAESB Section 34—MetaData Clean-Up to be effective 4/1/2016.

Filed Date: 10/2/17.

Accession Number: 20171002-5169.

Comments Due: 5 p.m. ET 10/16/17.

Docket Numbers: RP18-1-000.

Applicants: American Midstream (AlaTenn), LLC.

Description: § 4(d) Rate Filing: AlaTenn Reservation Fee Credit Filing to be effective 11/2/2017.

Filed Date: 10/2/17.

Accession Number: 20171002-5138.

Comments Due: 5 p.m. ET 10/16/17.

Docket Numbers: RP18-2-000.

Applicants: Iroquois Gas Transmission System, L.P.

Description: § 4(d) Rate Filing: 100217 Negotiated Rates—Wells Fargo Commodities, LLC R-7810-04 to be effective 11/1/2017.

Filed Date: 10/2/17.

Accession Number: 20171002-5170.

Comments Due: 5 p.m. ET 10/16/17.

Docket Numbers: RP18-3-000.

Applicants: Iroquois Gas Transmission System, L.P.

Description: § 4(d) Rate Filing: 100217 Negotiated Rates—Wells Fargo Commodities, LLC R-7810-05 to be effective 11/1/2017.

Filed Date: 10/2/17.

Accession Number: 20171002-5171.

Comments Due: 5 p.m. ET 10/16/17.

Docket Numbers: RP18-4-000.

Applicants: Iroquois Gas Transmission System, L.P.

Description: § 4(d) Rate Filing: 100217 Negotiated Rates—Wells Fargo Commodities, LLC R-7810-07 to be effective 11/1/2017.

Filed Date: 10/2/17.

Accession Number: 20171002-5172.

Comments Due: 5 p.m. ET 10/16/17.

Docket Numbers: RP18-5-000.

Applicants: Transcontinental Gas Pipe Line Company.

Description: § 4(d) Rate Filing: Negotiated Rates—MarketLink—PPL Termination to be effective 10/1/2017.

Filed Date: 10/2/17.

Accession Number: 20171002-5280.

Comments Due: 5 p.m. ET 10/16/17.

Docket Numbers: RP18-6-000.

Applicants: Equitrans, L.P.

Description: § 4(d) Rate Filing: Negotiated Capacity Release Agreements—10/1/17 to be effective 10/1/2017.

Filed Date: 10/2/17.

Accession Number: 20171002-5290.

Comments Due: 5 p.m. ET 10/16/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2017.
Nathaniel J. Davis, Sr.,
Deputy Secretary.

[FR Doc. 2017-21819 Filed 10-10-17; 8:45 am]

BILLING CODE 6717-01-P